DEPARTMENT OF HEALTH AND HUMAN SERVICES

National Vaccine Advisory Committee Meetings

AGENCY: Office of the Secretary, Department of Health and Human Services.

ACTION: Notice of meetings.

SUMMARY: As stipulated by the Federal Advisory Committee Act, the Department of Health and Human Services (HHS) is hereby giving notice that the National Vaccine Advisory Committee (NVAC) will hold two teleconference meetings. The meetings are open to the public. Pre-registration is not required, however, individuals who wish to participate in the public comment sessions should either e-mail nvpo@hhs.gov or call 202-690-5566 to register.

DATES: The meeting dates are:

1. July 27, 2010, 1 p.m.-2 p.m. EDT.

2. August 25, 2010, 1 p.m.-2 p.m. EDT.

ADDRESSES: The meetings will occur by teleconference. To attend, please call 1-888-677-1385, passcode “NVAC.”

FOR FURTHER INFORMATION CONTACT: Daniel Salmon, National Vaccine Program Office, Department of Health and Human Services, Room 715-H, Hubert H. Humphrey Building, 200 Independence Avenue, SW., Washington, DC 20201. Phone: (202) 690-5566; Fax: (202) 260-1165; e-mail: nvpo@hhs.gov.

SUPPLEMENTARY INFORMATION: Pursuant to Section 2101 of the Public Health Service Act (42 U.S.C. Section 300aa-1), the Secretary of Health and Human Services was mandated to establish the National Vaccine Program to achieve optimal prevention of human infectious diseases through immunization and to achieve optimal prevention against adverse reactions to vaccines. The National Vaccine Advisory Committee was established to provide advice and make recommendations to the Director of the National Vaccine Program, on matters related to the Program's responsibilities. The Assistant Secretary for Health serves as Director of the National Vaccine Program.

These are special meetings of the NVAC. Discussions will focus on the work of the Vaccine Safety Risk Assessment Working Group (VSRAWG) and the reports that it generates. The reports will summarize the work to-date of the H1N1 VSRAWG reviewing H1N1 safety monitoring data. These NVAC meetings may also include topics beyond the VSRAWG such as the National Vaccine Plan and updates from other Working Groups. If there is a change in meeting dates this information will be posted on the NVAC Web site (http://www.hhs.gov/nvpo/nvac/) as soon as the pertinent information becomes available.

For these special meetings, members of the public are invited to attend by teleconference via a toll-free call-in phone number. The call-in number will be operator assisted to provide members of the public the opportunity to provide comments to the Committee. Public participation and ability to comment will be limited to space and time available. Public comment will be limited to no more than three minutes per speaker. Pre-registration is required for public comment only. Individuals who plan to attend and need special assistance, such as accommodation for hearing impairment or other reasonable accommodations, should notify the designated contact person at least one week prior to the meeting.

Any members of the public who wish to have printed material distributed to NVAC should submit materials to the Executive Secretary, NVAC, through the contact person listed above prior to close of business one week before each meeting (conference call). A draft agenda and any additional materials will be posted on the NVAC Web site (http://www.hhs.gov/nvpo/nvac/) prior to the meeting.

Dated: June 1, 2010.
Bruce Gellin,
Deputy Assistant Secretary for Health, Director, National Vaccine Program Office, Executive Secretary, NVAC.

[FR Doc. 2010-14472 Filed 6-15-10; 8:45 am]

BILLING CODE 4150-44-P